DEPARTMENT OF ENERGY

[Docket Nos. 13-69-LNG, 14-88-LNG, 15-25-LNG (Consolidated)]

Venture Global Calcasieu Pass, LLC; Application for Limited Amendment to Existing Long-Term, Multi-Contract Authorization To Export Liquefied Natural Gas to Non-Free Trade Agreement Nations

AGENCY: Office of Fossil Energy and Carbon Management, Department of Energy.

ACTION: Notice of application.

SUMMARY: The Office of Fossil Energy and Carbon Management (FECM) of the Department of Energy (DOE) gives notice (Notice) of receipt of an application (Application), filed on December 3, 2021 (as corrected on December 10, 2021), by Venture Global Calcasieu Pass, LLC (Calcasieu Pass). In relevant part, Calcasieu Pass requests a limited amendment of its existing authorization to export domestically produced liquefied natural gas (LNG) to non-free trade agreement (non-FTA) countries, issued in Order No. 4346. The amendment would increase Calcasieu Pass's approved non-FTA export volume from 620 billion cubic feet per year (Bcf/yr) to 640.666 Bcf/yr of natural gas—an increase of 20.666 Bcf/yr. Calcasieu Pass filed the Application under the Natural Gas Act (NGA).

DATES: Protests, motions to intervene, or notices of intervention, as applicable, and written comments are to be filed electronically as detailed in the Public Comment Procedures section no later than 4:30 p.m., Eastern time, March 11, 2022.

ADDRESSES: Electronic Filing by email: fergas@hq.doe.gov.

Although DOE has routinely accepted public comment submissions through a variety of mechanisms, including postal mail and hand delivery/courier, DOE has found it necessary to make temporary modifications to the comment submission process in light of the ongoing Covid-19 pandemic. DOE is currently accepting only electronic submissions at this time. If a commenter finds that this change poses an undue hardship, please contact Office of Resource Sustainability staff at (202) 586-2627 or (202) 586-4749 to discuss the need for alternative arrangements. Once the Covid-19 pandemic health emergency is resolved, DOE anticipates resuming all of its regular options for public comment submission, including postal mail and hand delivery/courier.

FOR FURTHER INFORMATION CONTACT:

Amy Sweeney or Jennifer Wade, U.S. Department of Energy (FE-34), Office of Fossil Energy and Carbon Management,¹ Office of Regulation, Analysis, and Engagement, Office of Resource Sustainability, Forrestal Building, Room 3E-042, 1000 Independence Avenue SW, Washington, DC 20585, (202) 586-2627; (202) 586-4749, amy.sweeney@hq.doe.gov or jennifer.wade@hq.doe.gov.

¹ The Office of Fossil Energy changed its name to the Office of Fossil Energy and Carbon Management on July 4, 2021.

Cassandra Bernstein, U.S. Department of Energy (GC-76), Office of the Assistant General Counsel for Electricity and Fossil Energy, Forrestal Building, Room 6D-033, 1000 Independence Avenue SW, Washington, DC 20585, (202) 586-9793, cassandra.bernstein@hq.doe.gov.

SUPPLEMENTARY INFORMATION: In Order No. 4346, issued on March 5, 2019, in Docket Nos. 13-69-LNG, 14-88-LNG, 15-25-LNG (consolidated), DOE authorized Calcasieu Pass to export domestically produced LNG in a volume equivalent to 620 Bcf/yr of natural gas.² Calcasieu Pass is authorized to export this LNG by vessel from the Calcasieu Pass LNG Project (the Project), which is currently under construction in Cameron Parish, Louisiana, to any country with which the United States has not entered into a free trade agreement (FTA) requiring national treatment for trade in natural gas, and with which trade is not prohibited by U.S. law or policy (non-FTA countries), pursuant to NGA section 3(a), 15 U.S.C. 717b(a).³ This non-FTA authorization, as amended, extends through December 31, 2050.⁴

² Venture Global Calcasieu Pass, LLC, DOE/FE Order No. 4346, Docket Nos. 13-69-LNG, 14-88-LNG, and 15-25-LNG (Consolidated), Opinion and Order Granting Long-Term Authorization to Export Liquefied Natural Gas to Non-Free Trade Agreement Nations (Mar. 5, 2019), amended by DOE/FE Order No. 4346-A (Oct. 21, 2020) (extending export term).

³ See id.

⁴ See id.

In the Application, as relevant here,⁵ Calcasieu Pass requests a limited amendment to its approved LNG export volume in Order No. 4346. Specifically, Calcasieu Pass requests that DOE amend Order No. 4346 to increase its non-FTA export volume from 620 Bcf/yr to 640.666 Bcf/yr of natural gas, an increase of 20.666 Bcf/yr. According to Calcasieu Pass, this increase reflects a refinement in the final design of the Project, in which the “actual peak liquefaction capacity of the Project facilities under optimal conditions” will increase from 12 million metric tons per annum (mtpa) of LNG to 12.4 mtpa of LNG (equivalent to 640.666 Bcf/yr of natural gas).

⁵ This Notice applies only to the portion of the Application requesting an amendment to Calcasieu Pass's non-FTA order. DOE will review separately the portion of the Application requesting an amendment to its three existing authorizations to export LNG to FTA countries, pursuant to section 3(c) of the NGA, 15 U.S.C. 717b(c).

Calcasieu Pass further states that it has filed an application with the Federal Energy Regulatory Commission (FERC) asking FERC to amend its NGA section 3 authorization to increase the Project's authorized peak liquefaction capacity under optimal conditions to 12.4 mtpa of LNG.

Calcasieu Pass states that the proposed increase in its non-FTA export volume will not require the construction of any new facilities or the modification of the previously authorized Project facilities, nor will it require any other changes to its non-FTA authorization.

Additional details can be found in Calcasieu Pass's Application and the email amendment to the Application, posted on the DOE website in Docket Nos. 13-69-LNG, 14-88-LNG, and 15-25-LNG, and available here: https://fossil.energy.gov/ng_regulation/applications-2013-venturegloballlc-13-69-lng1.

DOE Evaluation

In reviewing the Application, DOE will consider any issues required by law or policy. DOE will consider domestic need for the natural gas, as well as any other issues determined to be appropriate, including whether the arrangement is consistent with DOE's policy of promoting competition in the marketplace by allowing commercial parties to freely negotiate their own trade arrangements. As part of this analysis, DOE will consider the study entitled, Macroeconomic Outcomes of Market Determined Levels of U.S. LNG Exports (2018 LNG Export Study),⁶ and DOE's response to public comments received on that Study.⁷

⁶ See NERA Economic Consulting, Macroeconomic Outcomes of Market Determined Levels of U.S. LNG Exports (June 7, 2018), available at: www.energy.gov/sites/prod/files/2018/06/f52/Macroeconomic%20LNG%20Export%20Study%202018.pdf.

⁷ U.S. Dep't of Energy, Study on Macroeconomic Outcomes of LNG Exports: Response to Comments Received on Study; Notice of Response to Comments, 83 FR 67251 (Dec. 28, 2018).

Additionally, DOE will consider the following environmental documents:

• Addendum to Environmental Review Documents Concerning Exports of Natural Gas From the United States, 79 FR 48132 (Aug. 15, 2014); ⁸

⁸ The Addendum and related documents are available at: https://energy.gov/fe/draft-addendum-environmental-review-documents-concerning-exports-natural-gas-united-states.

• Life Cycle Greenhouse Gas Perspective on Exporting Liquefied Natural Gas From the United States, 79 FR 32260 (June 4, 2014); ⁹ and

⁹ The 2014 Life Cycle Greenhouse Gas Report is available at: https://energy.gov/fe/life-cycle-greenhouse-gas-perspective-exporting-liquefied-natural-gas-united-states.

• Life Cycle Greenhouse Gas Perspective on Exporting Liquefied Natural Gas From the United States: 2019 Update, 84 FR 49278 (Sept. 19, 2019), and DOE's response to public comments received on that study.¹⁰

¹⁰ U.S. Dep't of Energy, Life Cycle Greenhouse Gas Perspective on Exporting Liquefied Natural Gas From the United States: 2019 Update—Response to Comments, 85 FR 72 (Jan. 2, 2020). The 2019 Update and related documents are available at: https://fossil.energy.gov/app/docketindex/docket/index/21.

Parties that may oppose this Application should address these issues and documents in their comments and protests, as well as other issues deemed relevant to the Application.

The National Environmental Policy Act (NEPA), 42 U.S.C. 4321 et seq., requires DOE to give appropriate consideration to the environmental effects of its proposed decisions. No final decision will be issued in this proceeding until DOE has met its environmental responsibilities.

Public Comment Procedures

In response to this Notice, any person may file a protest, comments, or a motion to intervene or notice of intervention, as applicable. Interested parties will be provided 60 days from the date of publication of this Notice in which to submit comments, protests, motions to intervene, or notices of intervention.

Any person wishing to become a party to the proceeding must file a motion to intervene or notice of intervention. The filing of comments or a protest with respect to the Application will not serve to make the commenter or protestant a party to the proceeding, although protests and comments received from persons who are not parties will be considered in determining the appropriate action to be taken on the Application. All protests, comments, motions to intervene, or notices of intervention must meet the requirements specified by the regulations in 10 CFR part 590.

As noted, DOE is only accepting electronic submissions at this time. Please email the filing to fergas@hq.doe.gov. All filings must include a reference to “Docket Nos. 13-69-LNG, et al.,” or “Venture Global Calcasieu Pass, LLC” in the title line.

Please Note: Please include all related documents and attachments (e.g., exhibits) in the original email correspondence. Please do not include any active hyperlinks or password protection in any of the documents or attachments related to the filing. All electronic filings submitted to DOE must follow these guidelines to ensure that all documents are filed in a timely manner. Any hardcopy filing submitted greater in length than 50 pages must also include, at the time of the filing, a digital copy on disk of the entire submission.

The Application and any filed protests, motions to intervene, notices of interventions, and comments will also be available electronically by going to the following DOE Web address: https://www.energy.gov/fecm/division-natural-gas-regulation.

A decisional record on the Application will be developed through responses to this Notice by parties, including the parties' written comments and replies thereto. Additional procedures will be used as necessary to achieve a complete understanding of the facts and issues. If an additional procedure is scheduled, notice will be provided to all parties. If no party requests additional procedures, a final Opinion and Order may be issued based on the official record, including the Application and responses filed by parties pursuant to this Notice, in accordance with 10 CFR 590.316.

Signed in Washington, DC, on January 4, 2022.
Amy Sweeney,
Director, Office of Regulation, Analysis, and Engagement, Office of Resource Sustainability.

[FR Doc. 2022-00173 Filed 1-7-22; 8:45 am]

BILLING CODE 6450-01-P